DEPARTMENT OF COMMERCE

International Trade Administration

[A-570-141]

Certain Walk-Behind Snow Throwers and Parts Thereof From the People's Republic of China: Postponement of Preliminary Determination in the Less-Than-Fair-Value Investigation

AGENCY: Enforcement and Compliance, International Trade Administration, Department of Commerce.

DATES: Applicable August 20, 2021.

FOR FURTHER INFORMATION CONTACT: Laurel LaCivita or Brendan Quinn, AD/CVD Operations, Office III, Enforcement and Compliance, International Trade Administration, U.S. Department of Commerce, 1401 Constitution Avenue NW, Washington, DC 20230; telephone: (202) 482-4243 or (202) 482-5848, respectively.

SUPPLEMENTARY INFORMATION:

Background

On April 19, 2021, the Department of Commerce (Commerce) initiated a less-than-fair- value (LTFV) investigation of imports of certain walk-behind snow throwers and parts thereof (snow throwers) from the People's Republic of China.¹ Currently, the preliminary determination is due no later than September 7, 2021.²

¹ See Certain Walk-Behind Snow Throwers and Parts Thereof from the People's Republic of China: Initiation of Less-Than-Fair-Value Investigation, 86 FR 22026 (April 26, 2021).

² The current deadline for the preliminary determination falls on September 6, 2021. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 6, 2021, the petitioner ³ submitted a timely request that Commerce postpone the preliminary determination in the LTFV investigation.⁴ The petitioner states that a postponement is necessary to provide Commerce with adequate time to collect and analyze questionnaire responses from the mandatory respondent, Zhejiang Zhouli Industrial Co., Ltd. (Zhejiang Zhouli), to review data to identify deficiencies, and to investigate fully the extent to which Zhejiang Zhouli has engaged in LTFV sales of the subject merchandise based on a comprehensive preliminary record.⁵

³ The petitioner in this investigation is MTD Products Incorporated (MTD), a domestic producer of snow throwers.

⁴ See Petitioner's Letter, “Antidumping Duty Investigation of Certain Walk-Behind Snow Throwers and Parts Thereof from the People's Republic of China: Petitioner's Request to Postpone the Preliminary Determination,” dated August 6, 2021.

⁵ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than October 26, 2021. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: August 16, 2021.
Christian Marsh,
Acting Assistant Secretary for Enforcement and Compliance.

[FR Doc. 2021-17866 Filed 8-19-21; 8:45 am]

BILLING CODE 3510-DS-P